SUSQUEHANNA RIVER BASIN COMMISSION

Grandfathering (GF) Registration Notice

AGENCY: Susquehanna River Basin Commission.

ACTION: Notice.

SUMMARY: This notice lists Grandfathering Registration for projects by the Susquehanna River Basin Commission during the period set forth in DATES.

DATES: January 1-31, 2024.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.gov. Regular mail inquiries may be sent to the above address.

SUPPLEMENTARY INFORMATION: This notice lists GF Registration for projects described below, pursuant to 18 CFR part 806, subpart E, for the time period specified above:

1. State University of New York at Morrisville—SUNY Morrisville, GF Certificate No. GF-202401267, Village of Morrisville, Madison County, N.Y.; combined withdrawals from Wells 1 and 2, and Well 3; Issue Date: January 19, 2024.

2. U.S. Silica Company—Mapleton Plant, GF Certificate No. GF-202401268, Brady Township, Huntingdon County, Pa.; Juniata River, Quarry Sump, and consumptive use; Issue Date: January 19, 2024.

3. York Building Products Co., Inc.—Lincoln Stone Quarry, GF Certificate No. GF-202401269, Jackson Township, York County, Pa.; Quarry Sump and consumptive use; Issue Date: January 19, 2024.

4. York Building Products Co., Inc.—Roosevelt Quarry, GF Certificate No. GF-202401270, West Manchester Township, York County, Pa.; Quarry Sump and consumptive use; Issue Date: January 19, 2024.

Authority: Public Law 91-575, 84 Stat. 1509 et seq., 18 CFR parts 806 and 808.

Dated: February 8, 2024.
Jason E. Oyler,
General Counsel and Secretary to the Commission.

[FR Doc. 2024-02982 Filed 2-13-24; 8:45 am]

BILLING CODE 7040-01-P